FEDERAL ACCOUNTING STANDARDS ADVISORY BOARD

Notice of Request for Comment on an Invitation To Comment, Reexamination of Existing Standards

AGENCY: Federal Accounting Standards Advisory Board.

ACTION: Notice.

SUMMARY: Notice is hereby given that the Federal Accounting Standards Advisory Board (FASAB) has released an Invitation to Comment titled Reexamination of Existing Standards. Respondents are encouraged to comment on any part of the Invitation to Comment. Written comments are requested by September 15, 2023, and should be sent to fasab@fasab.gov or Monica R. Valentine, Executive Director, Federal Accounting Standards Advisory Board, 441 G Street NW, Suite 1155, Washington, DC 20548.

ADDRESSES: The Invitation to Comment is available on the FASAB website at https://www.fasab.gov/documents-for-comment/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: May 15, 2023.
Monica R. Valentine,
Executive Director.

[FR Doc. 2023-10674 Filed 5-18-23; 8:45 am]

BILLING CODE 1610-02-P